ENVIRONMENTAL PROTECTION AGENCY

[FRL-7042-3]

Proposed CERCLA Administrative Cost Recovery Settlement; Atlantic Richfield Company, International Smelter Site, Tooele, Utah

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the International Smelter site in Tooele, Utah, with Atlantic Richfield Company. The settlement requires the settling party to pay $185,066 to the Hazardous Substance Superfund and to perform and fund the remedial investigation/feasibility study for the site. The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

DATES: Comments must be submitted on or before September 24, 2001.

ADDRESSES: Written comments may be mailed to Dawn Tesorero, Technical Enforcement Program, 8ENF-T, Environmental Protection Agency (EPA), Region 8, 999 18th Street, Suite 300, Denver, Colorado, 80202. Comments should reference the International Smelter Site, Tooele, Utah. Copies of the documents relevant to this settlement are available for public inspection at the Superfund Records Center, EPA, Region 8, 999 18th Street, Suite 300, Denver, Colorado, 80202.

FOR FURTHER INFORMATION CONTACT: Dawn Tesorero, EPA, Technical Enforcement Program, (303) 312-6883 at the earlier mentioned address.

Dated: August 9, 2001.
Carol Rushin,
Assistant Regional Administrator, Office of Enforcement, Compliance, and Environmental Justice, Region 8.

[FR Doc. 01-21443 Filed 8-23-01; 8:45 am]

BILLING CODE 6560-50-P